NUCLEAR REGULATORY COMMISSION

[NRC-2009-0043]

Proposed Standard Review Plan Section 9.5.1.2 on Risk-Informed, Performance-Based Fire Protection Program, Correction

AGENCY: Nuclear Regulatory Commission (NRC).

ACTION: Solicitation of public comment, correction of proposed comment date.

SUMMARY: This document amends a notice appearing in the Federal Register on February 5, 2009 (74 FR 6181), that announced the proposed Standard Review Plan Section 9.5.1.2 on “Risk-Informed, Performance-Based Fire Protection Program.” This action is necessary to extend the originally proposed end date for comment from April 5, 2009 to May 22, 2009.

FOR FURTHER INFORMATION CONTACT: Mr. Alexander R. Klein, Chief, Fire Protection Branch, Division of Risk Assessment, Office of the Nuclear Reactor Regulation, U.S. Nuclear Regulatory Commission, Washington, DC 20555-0001; telephone 301-415-2822 or e-mail at Alex.Klein@nrc.gov.

SUPPLEMENTARY INFORMATION: On page 6181, in the third column, Date Information, second line, the proposed period for comment of 60 days from the date of publication is extended to May 22, 2009.

Dated at Rockville, Maryland, this 25th day of March 2009.
For the Nuclear Regulatory Commission.
William F. Burton,
Chief, Rulemaking and Guidance Development Branch, Division of New Reactor Licensing, Office of New Reactors.

[FR Doc. E9-7495 Filed 4-2-09; 8:45 am]

BILLING CODE 7590-01-P